NATIONAL SCIENCE FOUNDATION

Notice of Meeting of the Advisory Committee for Education and Human Resources

In accordance with the Federal Advisory Committee Act (Pub. L. 92-463, as amended), the National Science Foundation announces the following meeting:

Name: Advisory Committee for Education and Human Resources (#1119).

Date/Time: November 5, 2014; 8:30 a.m.-5 p.m.; November 6, 2014; 8:30 a.m.-2:30p.m.

Place: NSF Headquarters, Room 375, 4201 Wilson Boulevard, Arlington, VA 22230.

Operated assisted teleconference is available for this meeting. Call 800-857-3133 with password EHR AC and you will be connected to the audio portion of the meeting.

To attend the meeting in person, all visitors must contact the Directorate for Education and Human Resources (ehr_ac@nsf.gov) at least 24 hours prior to the teleconference to arrange for a visitor's badge. All visitors must report to the NSF visitor desk located in the lobby at the 9th and N. Stuart Streets entrance on the day of the teleconference to receive a visitor's badge.

Meeting materials and minutes will also be available on the EHR Advisory Committee Web site at http://www.nsf.gov/ehr/advisory.jsp.

Type of Meeting: Open, teleconference.

Contact Person: Teresa Caravelli, National Science Foundation, 4201 Wilson Boulevard, Arlington, VA 22230, (703) 292-8600; ehr_ac@nsf.gov.

Purpose of Meeting: To provide advice with respect to the Foundation's science, technology, engineering, and mathematics (STEM) education and human resources programming.

Agenda

Wednesday, November 5, 2014 8:30 a.m.-5 p.m.:

• Introduction by Joan Ferrini-Mundy, Assistant Director for Education and Human Resources.

• Program discussions on implementing the report “Strategic Re-Envisioning for the Education and Human Resources Directorate”.

• Panel and Discussion on New Directions in Assessment Metrics.

• Business from NSF Advisory Committees and Directorates.

Thursday, November 6, 2014 8:30 a.m.-2:30 p.m.:

• Panel and Discussion on Models and Theories for Big Data Use in Educations Research.

• Welcome from Dr. France Córdova, NSF Director.

• Plenary Session Discussion on Replication and Reproducibility of Science Findings in STEM Education.

• Recognition, Closing Remarks, and Wrap Up.

Dated: September 30, 2014.
Suzanne Plimpton,
Acting, Committee Management Officer.

[FR Doc. 2014-23591 Filed 10-2-14; 8:45 am]

BILLING CODE 7555-01-P